DEPARTMENT OF ENERGY

Federal Energy Regulatory Commission

[Project No. 2808-017]

KEI (Maine) Power Management (III) LLC; Notice of Application Accepted for Filing and Soliciting Motions To Intervene and Protests

Take notice that the following hydroelectric applications have been filed with Commission and are available for public inspection:

a. Type of Application: Subsequent Minor License.

b. Project No.: 2808-017.

c. Date filed: January 30, 2017.

d. Applicant: KEI (Maine) Power Management (III) LLC.

e. Name of Project: Barker's Mill Hydroelectric Project.

f. Location: On the Little Androscoggin River, in the City of Auburn, Androscoggin County, Maine. The project does not occupy lands of the United States.

g. Filed Pursuant to: Federal Power Act, 16 U.S.C. 791(a)-825(r).

h. Applicant Contact: Lewis Loon, Operations and Maintenance Manager, 423 Brunswick Avenue, Gardiner, ME 04345, (207) 203-3025.

i. FERC Contact: Karen Sughrue, karen.sughrue@ferc.gov, (202) 502-8556.

j. Deadline for filing motions to intervene and protests and requests for cooperating agency status: August 29, 2017.

The Commission strongly encourages electronic filing. Please file motions to intervene and protests and requests for cooperating agency status using the Commission's eFiling system at http://www.ferc.gov/docs-filing/efiling.asp. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-2808-017.

The Commission's Rules of Practice and Procedure require all interveners filing documents with the Commission to serve a copy of that document on each person on the official service list for the project. Further, if an intervener files comments or documents with the Commission relating to the merits of an issue that may affect the responsibilities of a particular resource agency, they must also serve a copy of the document on that resource agency.

k. This application has been accepted, but is not ready for environmental analysis at this time.

l. The Barker's Mill Project consists of the following existing facilities: (1) A 232-foot-long, 30-foot-high concrete dam with a 125-foot-long spillway section with flashboards, a 46-foot-long non-overflow section with two waste gates along the left buttress, and a 61-foot-long non-overflow section with seven stop-logs adjacent to the intake canal; (2) a 16.5-acre reservoir with a storage capacity of 150-acre-feet; (3) a 60-foot-long, 20-foot-wide, 9 foot, 7 inch-deep intake canal on the right bank with seven stop-logs; (4) a 35-foot-long, 20-foot-wide gatehouse containing a single gate fitted with trash racks; (5) a buried 650-foot-long, 10 foot, 2 inch-wide, 7 foot, 2 inch-high concrete penstock; (6) a 50-foot-long, 25-foot-wide concrete partially buried powerhouse containing a single semi-Kaplan-type turbine/generating unit with a rated capacity of 1.5 megawatts; (7) a tailrace; (8) a 250-foot-long, 4.2 kilovolt underground power line; (9) a substation; and (10) appurtenant facilities. The project produces an average of 5,087 megawatt-hours annually.

m. A copy of the application is available for review at the Commission in the Public Reference Room or may be viewed on the Commission's Web site at http://www.ferc.gov using the “eLibrary” link. Enter the docket number excluding the last three digits in the docket number field to access the document. For assistance, contact FERC Online Support. A copy is also available for inspection and reproduction at the address in item h above.

You may also register online at http://www.ferc.gov/docs-filing/esubscription.asp to be notified via email of new filings and issuances related to this or other pending projects. For assistance, contact FERC Online Support.

n. Anyone may submit a protest or a motion to intervene in accordance with the requirements of Rules of Practice and Procedure, 18 CFR 385.210, 385.211, and 385.214. In determining the appropriate action to take, the Commission will consider all protests filed, but only those who file a motion to intervene in accordance with the Commission's Rules may become a party to the proceeding. Any protests or motions to intervene must be received on or before the specified deadline date for the particular application.

All filings must (1) bear in all capital letters the title “PROTEST” or “MOTION TO INTERVENE;” (2) set forth in the heading the name of the applicant and the project number of the application to which the filing responds; (3) furnish the name, address, and telephone number of the person protesting or intervening; and (4) otherwise comply with the requirements of 18 CFR 385.2001 through 385.2005. Agencies may obtain copies of the application directly from the applicant. A copy of any protest or motion to intervene must be served upon each representative of the applicant specified in the particular application.

Dated: June 30, 2017.
Kimberly D. Bose,
Secretary.

[FR Doc. 2017-14334 Filed 7-7-17; 8:45 am]

BILLING CODE 6717-01-P